DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of August 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-57,637; Merck & Company, Inc., Xanthan Gum Product Line, Danville, PA

TA-W-57,472; H-Tech Seating Products, Inc., d/b/a Kustom Fit, South Gate, CA

TA-W-57,519; Owens-Illinois Healthcare Packaging, a div. of The Owens-Illinois, Inc., Sullivan, IN

TA-W-57,449; Unicircuit-Roseville, Inc., a subsidiary of Unicircuit, Inc., Roseville, MN

TA-W-57,368; Holyoke Card Company, Inc., Springfield, MA

TA-W-57,443; Multitone Engraving Co., Inc., Rochelle Park, NJ

TA-W-57,560; Gross Given Manufacturing, Saint Paul, MN

TA-W-57,621; Abbott Laboratories, North Chicago Plant, Global Pharmaceuticals Operations, North Chicago, IL

TA-W-57,491; Iberia Sugar Cooperative, Inc., New Iberia, LA

TA-W-57,575; Milford Stitching Co., Inc., a div. of GLK, Inc., Milford, DE

TA-W-57,534A; RAM Industries, LLC, PCB Department, including on-site leased workers of Gage Personnel Services, Contemporary @ Work Personnel Services, and Manpower Temporary Services, Leesport, PA

The investigation revealed that criteria (a)(2)(A)(I.B.) (Sales or production, or both, did not decline) and (a)(2)(B)(II.B) (No shift in production to a foreign country) have not been met.

TA-W-57,503; Office Equipment Services, Inc., Paw Paw, WV

TA-W-57,584; Credence Systems Corp., including on-site leased workers of HR Staffing, Acrotek and Volt, Simi Valley, CA

The investigation revealed that criterion (a)(2)(A)(I.A) and (a)(2)(B)(II.A) (no employment decline) has not been met.

TA-W-57,559; Alexander Fabrics, LLP, Burlington, NC

TA-W-57,719; Swan Dyeing & Printing Corp., Fall River, MA

TA-W-57,568; Sam Moore Furniture Industries, a subsidiary of La-Z-Boy, Inc., Bedford, VA

TA-W-57,483; Bronze Craft Corp., Nashua, NH

The workers firm does not produce an article as required for certification under Section 222 of the Trade Act of 1974.

TA-W-57,646; Mason Companies, Inc., Distribution Center, Chippewa Falls, WI

TA-W-57,493; Qualex, Inc., a subsidiary of Eastman Kodak, Kodak Service and Support, Telemaintenance Call Center, Durham, NC

TA-W-57,608; Accenture LLP, Houston, TX

TA-W-57,703; DPS Enterprises, Inc., Macon, GA

TA-W-57,739; Bon Worth, Inc., Bonworth Distribution Center, Hendersonville, NC

TA-W-57,552; Gas Transmission Service Co., LLC, a div. of The Transcanada Corp., Sandpoint, ID

TA-W-57,585; Delta Air Lines, Technical Operations, Atlanta, GA

TA-W-57,600; Philips Consumer Electronics, Philips Service Organization, Service Contracts, Claims, Credit and Special Projects Departments, Knoxville, TN

TA-W-57,587; WTTC, Inc. El Paso, TX

TA-W-57,642; Andrews Center, Tyler, TX

TA-W-57,566; Household Shanghai Benefit Corp (HSBC), Regional Processing Center, Pomona, CA

TA-W-57,658; Kellwood Company, Calhoun City, Mississippi Distribution Center, Calhoun City, MS

TA-W-57,697; Dorr-Oliver Eimco USA, Inc., Salt Lake City, UT

The investigation revealed that criteria (a)(2)(A)(I.C.) (Increased imports and (a)(2)(B)(II.C) (has shifted production to a foreign country) have not been met.

TA-W-57,475; Onux Medical, Inc., Hampton, NH

The investigation revealed that criteria (2) has not been met. The workers firm (or subdivision) is not a supplier or downstream producer to trade-affected companies.

NONE

Affirmative Determinations for Worker Adjustment Assistance

The following certifications have been issued; the date following the company name and location of each determination references the impact date for all workers of such determination.

The following certifications have been issued. The requirements of (a)(2)(A) (increased imports) of Section 222 have been met.

TA-W-57,554; Magnetics, a div. of Spang & Co., Booneville, AR: January 8, 2005.

TA-W-57,495; VMC Volt Services Group, workers at Hewlett-Packard Co., imaging and Printing Group-Personal Inkjet Printing Div., Vancouver, WA: June 29, 2004.

TA-W-57,459; Cardinal Brands, Inc., Hazel Promotional Products Div., Washington, MO: June 23, 2004.

TA-W-57,487; Continental Tire North America, Inc., a div. of Continental AG, Charlotte, NC: June 23, 2004.

TA-W-57,482; Industrial Distribution Group, working on-site at Oldham Saw Co., a subsidiary of Black and Decker, West Jefferson, NC: June 27, 2004.

TA-W-57,440; Trends Clothing Corp., Miami, FL: November 9, 2004.

TA-W-57,353 & A; Westpoint Home, Inc., formerly known as Westpoint Stevens, Inc., Bath Products Div., Wagram, NC and Bed Products Div., Calhoun Plant, Calhoun Falls, SC: June 8, 2004.

TA-W-57,407; Cativa, Inc., New York, NY: May 27, 2004.

TA-W-57,205; Royal Oak Enterprises, Inc., a div. of Royal Oak Sales, Inc., White City, OR: May 17, 2004.

TA-W-57,499; National Spinning Operations, LLC, Warsaw, NC: June 30, 2004.

TA-W-57,633; Corona Clipper, Inc., Corona, CA: July 19, 2004.

TA-W-57,626; Willowbrook Hosiery, Burlington, NC: July 26, 2004.

TA-W-57,610; Gerdau Ameristeel, Beaumont Mill Div., workers' wages were reported under Cargill, Inc., Beaumont, TX: July 6, 2005.

TA-W-57,580; Genlyte Group, Inc., Gardco Lighting Div., San Leandro, CA: July 6, 2004.

TA-W-57,535; Wayatec Electronics, Lynchburg, VA: July 11, 2004.

TA-W-57,594; F & M Hat Company, Inc., Bierner Hat Co., Div., Dallas, TX: July 18, 2004.

TA-W-57,593; Made in America, Inc., Waycross, GA: July 15, 2004.

TA-W-57,582; EPEC, LLC, New Bedford, MA: July 15, 2004.

TA-W-57,564; Bush Industries, Inc., Jamestown, NY: June 28, 2004.

TA-W-57,531; Agrium U.S., Inc., KFO Div., Kennewick, WA: June 27, 2004.

TA-W-57,524; USA Knit, Inc., Fort Payne, AL: July 7, 2004.

TA-W-57,523; ABC Hosiery, Inc, Chattanooga, TN: July 7, 2004.

TA-W-57,510; Green Printing and Packaging Co., including on-site leased workers of Stewart and Ablest, Lexington, NC: June 29, 2004.

TA-W-57,369; U.S. Aluminum, Inc., Haskell, NJ: June 10, 2004.

TA-W-57,500; Amital Spinning Corp., Wallace Plant, Wallace, NC: January 24, 2005.

The following certifications have been issued. The requirements of (a)(2)(B) (shift in production) of Section 222 have been met.

TA-W-57,577; Brunswick Family Boat Co., d/b/a U.S. Marine Bayliner, Pipestone, MN: July 19, 2004.

TA-W-57,581; L&L Leather LLC, Brownsville, TX: July 6, 2004.

TA-W-57,570; Acme-McCrary Corp., Silver City, NC: July 18, 2004.

TA-W-57,565; American Textile Marketing, Inc., Meritas Yarns Div., including leased on-site workers of Staffing Solutions, Columbus, GA: July 1, 2004.

TA-W-57,534; RAM Industries, LLC, Harnessing Department, including on-site leased workers of Gage Personnel Services, Contemporary @ Work Personnel Services, and Manpower Temporary Services, Leesport, PA: July 11, 2004.

TA-W-57,530; General Electric, Consumer & Industrial Div., a subsidiary of General Electric Co., Jonesboro, AR: August 8, 2005.

TA-W-57,528; Tower Automotive, Inc., Granite City, IL: July 5, 2004.

TA-W-57,528A; Tower Automotive, Inc., Corydon, IN—Has been Terminated—Workers are covered by an active certification—TA-W-57, 122 which expires on June 13, 2007.

TA-W-57,514; Painting Red Rhinos, Mechanicsburg, PA: July 5, 2004.

TA-W-57,496; Dukal Corp., formerly Known as Hermitage Hospital Products, Niantic CT: June 30, 2004.

TA-W-57,623; Lambert of Arkansas, Inc., Hughes, AR: July 25, 2004.

TA-W-57,520; Continental Tire North America, Inc. (CTNA), a subsidiary of Continental AG, Mayfield, KY: July 8, 2005.

TA-W-57,501; Unifi, Inc., Textured Div., Reidsville Plant #2, Reidsville, NC: July 1, 2004.

TA-W-57,479; Robert Bosch Tool Corp., Toccoa Div., Eastanollee, GA: June 24, 2004.

TA-W-57,466; Varco-Pruden Buildings, a subsidiary of Grupo IMSA, Memphis, TN: June 24, 2004.

TA-W-57,539; Robert Bosch North America, Automotive Technology—Chassis, including on-site leased workers of Staffmark, Securitas, and Southern Universal, Gallatin, TN: July 12, 2004.

TA-W-57,506; Viskase Corp., Kentland, IN: June 28, 2004.

TA-W-57,455; Brand Mills, Ltd, Kaibobo Interprises Corp., d/b/a Resource Payroll Co., Hackensack, NJ: June 10, 2004.

TA-W-57,390; Commemorative Brands, Inc., a div. of American Achievement Corp., El Paso, TX: June 13, 2004.

TA-W-57,622; K and K Framing, LLC, Booneville, MS: July 23, 2004.

TA-W-57,704; Sanmina-SCI Corp., Clinton, NC: August 4, 2004.

TA-W-57,612; Warvel Products, Inc., Transolid Div., Linwood, NC: July 19, 2004.

TA-W-57,544; Husky Injection Molding Systems, Inc., Controls Div., Milton, VT: July 12, 2004.

TA-W-57,713; L.A. T Sportswear, LLC, Cutting Facility and Corporate Office, Ball Ground, GA: August 8, 2004.

TA-W-57,694; Cequent Consumer Products, a subsidiary of Trimas Corp., Sheffield, PA: August 3, 2004.

TA-W-57,676; Clayson Knitting Company, Inc., Red Springs, NC: August 1, 2004.

TA-W-57,669; Taymar Industries, Inc., Indio, CA: July 25, 2004.

TA-W-57,660; Coto Division of Kearney-National, Inc., d/b/a Coto Technology, a subsidiary of Dyson-Kessner-Moran Corp., including on-site leased workers of Talent Tree Staffing, Providence, RI: August 1, 2004.

TA-W-57,625; GST Autoleather, Williamsport, MD: July 26, 2004.

TA-W-57,615; Alfred Paquette, Div. of Byer California, Los Angeles, California: July 13, 2004.

TA-W-57,652; Fibrelume US, a subsidiary of Albert Smith Group, New Bedford, MA: July 29, 2004.

The following certification has been issued. The requirement of downstream producer to a trade certified firm has been met.

None

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department as determined that criterion (2) of Section 246 has not been met. Workers at the firm possess skills that are easily transferable.

TA-W-57,577; Brunswick Family Boat Co., d/b/a U.S. Marine Bayliner, Pipestone, MN.

TA-W-55,180; Rainbow Swimwear, Inc., Brooklyn, NY.

TA-W-57,582; EPEC, LLC, New Bedford, MA.

TA-W-57,610; Gerdau Ameristeel, Beaumont Mill Div., workers' wage were reported under Cargill, Inc., Beaumont, TX

TA-W-57,694; Cequent Consumer Products, a Subsidiary of Trimas Corp., Sheffield, PA

TA-W-57,534; RAM Industries, LLC, Harnessing Department, including on-site leased workers of Gage Personnel Services, Contemporary @ Work Personnel Services, and Manpower Temporary Services, Leesport, PA

The Department as determined that criterion (1) of Section 246 has not been met. Workers at the firm are 50 years of age or older.

TA-W-57,581; L&L Leather LLC, Brownsville, TX

Since the workers are denied eligibility to apply for TAA, the workers cannot be certified eligible for ATAA.

TA-W-57,519; Owens-Illinois Healthcare Packaging, a div. of The Owens-Illinois, Inc., Sullivan, IN

TA-W-57,449; Unicircuit-Roseville, Inc., a subsidiary of Unicircuit, Inc., Roseville, MN

TA-W-57,368; Holyoke Card Company, Inc., Springfield, MS

TA-W-57,443; Multitone Engraving Co., Inc., Rochelle Park, NJ

TA-W-57,560; Gross Given Manufacturing, Saint Paul, MN

TA-W-57,621; Abbott Laboratories, North Chicago Plant, Global Pharmaceuticals Operations, North Chicago, IL

TA-W-57,491; Iberia Sugar Cooperative, Inc., New Iberia, LA

TA-W-57,575; Milford Stitching Co., Inc., a div. of GLK, Inc., Milford, DE

TA-W-57,503; Office Equipment Services, Inc., Paw Paw, WV

TA-W-57,584; Credence Systems Corp., including on-site leased workers of HR Staffing, Acrotek, and Volt, Simi Valley, CA

TA-W-57,559; Alexander Fabrics, LLP, Burlington, NC

TA-W-57,568; Sam Moore Furniture Industries, a subsidiary of La-Z-Boy, Inc., Bedford, VA

TA-W-57,483; Bronze Craft Corp., Nashua, NH

TA-W-57,608; Accenture LLP, Houston, TX

TA-W-57,703; DPS Enterprises, Inc., Macon, GA

TA-W-57,534A; RAM Industries, LLC, PCB Department, including on-site leased workers of Gage Personnel Services, Contemporary @ Work Personnel Services, and Manpower Temporary Services, Leesport, PA

TA-W-57,739; Bon Worth, Inc., BonWorth Distribution Center, Hendersonville, NC

TA-W-57,552; Gas Transmission Service Co., LLC, a div. of The Transcanada Corp., Sandpoint, ID

TA-W-57,585; Delta Air Lines, Technical Operations, Atlanta, GA

TA-W-57,600; Philips Consumer Electronics, Philips Service Organization, Service Contracts Claims Credit and Special Project Departments, Knoxville, TN

TA-W-57,587; WTTC, Inc., El Paso, TX

TA-W-57,642; Andrews Center, Tyler, TX

TA-W-57,566; Household Shanghai Benefit Corp. (HSBC), Regional Processing Center, Pomona, CA

TA-W-57,658; Kellwood Company, Calhoun City, Mississippi Distribution Center, Calhoun City, MS

TA-W-57,697; Dorr-Oliver Eimco USA, Inc., Salt Lake City, UT

TA-W-57,475; Onux Medical, Inc., Hampton, NH

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-52,424; Emglo Products, LLC, a wholly owned subsidiary of Black & Decker (USA), Inc., including leased workers of Rom Ruggeri Enterprise (d/b/a Sherion), Johnstown, PA: July 29, 2002.

TA-W-57,554; Magnetics, a div. of Spang & Company, Booneville, AR:. January 8, 2005.

TA-W-57,495; VMC Volt Services Group, Workers at Hewlett-Packard Co., Imaging & Printing Group—Personal Inkjet Printing Div., Vancouver, WA: June 29, 2004.

TA-W-57,440; Trends Clothing, Inc., Miami, FL: November 9, 2004.

TA-57,459; Cardinal Brands, Inc., Hazel Promotional Products Div., Washington, MO: June 23, 2004.

TA-W-57,487; Continental Tire North America, Inc., a div. of Continental AG, Charlotte, NC: June 23, 2004.

TA-W-57,353 & A; Westpoint Home, Inc., formerly known as Westpoint Stevens, Inc., Bath Products Div., Wagram, NC and Bed Products Div., Calhoun Plant, Calhoun Falls, SC: June 8, 2004.

TA-W-57,407; Cativa, Inc., New York, NY: May 27, 2004.

TA-W-57,205; Royal Oak Enterprises, Inc., a div. of Royal Oak Sales, Inc., White City, OR: May 17, 2004.

TA-W-57,499; National Spinning Operations, LLC, Warsaw, NC: June 30, 2004.

TA-W-57,633; Corona Clipper, Inc., Corona, CA: July 19, 2004.

TA-W-57,626; Willowbrook Hosiery, Burlington, NC: July 26, 2004.

TA-W-57,580; Genlyte Group, Inc., Gardco Lighting Div., San Leandro, CA: July 6, 2004.

TA-W-57,535; Waytec Electronics Corp., Lynchburg, VA: July 11, 2004.

TA-W-57,593; Made in America, Inc., Waycross, GA: July 15, 2004.

TA-W-57,594; F & M Hat Co., Inc., Bierner Hat Co. Div., Dallas, TX: July 18, 2004.

TA-W-57,564; Bush Industries, Inc., Jamestown, NY: June 28, 2004.

TA-W-57,531; Agrium U.S., Inc., KFO Div., Kennewick, WA: June 27, 2004.

TA-W-57,524; USA Knit, Inc., Fort Payne, AL: July 7, 2004.

TA-W-57,369; U.S. Aluminum, Inc., Haskell, NJ: June 10, 2004.

TA-W-57,570; Acme-McCrary Corp., Silver City, NC: July 18, 2004.

TA-W-57,565; American Textile Marketing, Inc., Meritas Yarns Div., including leased on-site workers of Staffing Solutions, Columbus, GA: July 1, 2004.

TA-W-57,530; General Electric Consumer & Industrial Div., a subsidiary of General Electric Company, Jonesboro, AR: August 8, 2005.

TA-W-57,528; Tower Automotive, Inc., Granite City, IL: July 5, 2004.

TA-W-57,514; Painting Red Rhinos, Mechanicsburg, PA: July 5, 2004.

TA-W-57,496; Dukal Corp., formerly known as Hermitage Hospital Products, Niantic, CT: June 30, 2004.

TA-W-57,623; Lambert of Arkansas, Inc., Hughes, AR: July 25, 2004.

TA-W-57,520; Continental Tire North America, Inc. (CTNA), a subsidiary of Continental AG, Mayfield, KY: July 8, 2005.

TA-W-57,501; Unifi, Inc., Textured Div., Reidsville Plant #2, Reidsville, NC: July 11, 2004.

TA-W-57,479; Robert Bosch Tool Corp., Toccoa Div., Eastanollee, GA: June 24, 2004.

TA-W-57,466; Varco-Pruden Buildings, a subsidiary of Grupo IMSA, Memphis, TN: June 24, 2004.

TA-W-57,539; Robert Bosch North America, Automotive Technology—Chassis, including on-site leased workers of Staffmark, Securitas and Southern Universal, Gallatin, TN: July 12, 2004.

TA-W-57,506; Viskase Corp., Kentland, IN: June 28, 2004.

TA-W-57,455; Brand Mills, Ltd, Kaiboro Enterprises Corp., d/b/a Resource Payroll Co., Hackensack, NJ: June 10, 2004.

TA-W-57,390; Commemorative Brands, Inc., a div. of American Achievement Corp., El Paso, TX: June 13, 2004.

TA-W-57,622; K and K Framing, LLC, Booneville, MS: July 23, 2004.

TA-W-57,704; Sanmina-SCI Corp., Clinton, NC: August 4, 2004.

TA-W-57,612; Warvel Products, Inc., Transolid Div., Linwood, NC: July 19, 2004.

TA-W-57,544; Husky Injection Molding Systems, Inc., Controls Div., Milton, VT: July 12, 2004.

TA-W-57,713; L.A. T Sportswear, LLC, Cutting Facility and Corporate Office, Ball Ground, GA: August 8, 2004.

TA-W-57,676; Clayson Knitting Co., Inc., Red Springs, NC: August 1, 2004.

TA-W-57,660; Coto Division of Kearney-National, Inc., d/b/a Coto Technology, a subsidiary of Dyson-Kissner-Moran Corp., including on-site leased workers of Talent Tree Staffing, Providence, RI: August 1, 2004.

TA-W-57,625; GST Autoleather, Williamsport, MD: July 26, 2004.

I hereby certify that the aforementioned determinations were issued during the month of August 2005. Copies of these determinations are available for inspection in Room C-5311, U.S. Department of Labor, 200 Constitution Avenue, NW., Washington, DC 20210 during normal business hours or will be mailed to persons who write to the above address.

Dated: August 30, 2005.
Terrance Clark,
Acting Director, Division of Trade Adjustment Assistance.

[FR Doc. E5-4883 Filed 9-7-05; 8:45 am]

BILLING CODE 4510-30-P